NATIONAL TRANSPORTATION SAFETY BOARD

Sunshine Act Meeting

AGENDA

TIME AND DATE 9:30 am, Tuesday, September 18, 2007.

PLACE: NTSB Conference Center, 429 L'Enfant Plaza, SW., Washington DC 20594.

STATUS: The one item is open to the public.

MATTER TO BE CONSIDERED: 5299Y: Most Wanted Transportation Safety Improvements—2007 Progress Report and Update on State Issues.

NEWS MEDIA CONTACT: Telephone: (202) 314-6100.

Individuals requesting specific accommodations should contact Chris Bisett at (202) 314-6305 by Friday, September 14, 2007.

The public may view the meeting via a live or archived webcast by accessing a link under “News & Events” on the NTSB home page at http://www.ntsb.gov.

FOR FURTHER INFORMATION CONTACT: Vicky D'Onofrio, (202) 314-6410.

Dated: September 7, 2007.
Vicky D'Onofrio,
Federal Register Liaison Officer.

[FR Doc. 07-4470 Filed 9-7-07; 1:22 pm]

BILLING CODE 7533-01-M